DEPARTMENT OF STATE

[Delegation of Authority: 375]

Delegation of Authority to the Inspector General for the U.S. Department of State

By virtue of the authority vested in me as Secretary of State, including Section 1 of the State Department Basic Authorities Act, as amended (22 U.S.C. 2651a), I hereby delegate to the Inspector General for the U.S. Department of State, to the extent authorized by law, the authority under Section 61 of the State Department Basic Authorities Act, as amended (22 U.S.C. 2733), to waive the application of the provisions of 5 U.S.C. 8344 or 8468 on a case-by-case basis, for the reemployment of annuitants in the Office of the Inspector General (OIG) under the Civil Service Retirement System and Federal Employees' Retirement System; provided that, the total number of annuitants to whom a waiver by the Inspector General under this delegation applies may not exceed 5 percent of the total number of full-time Civil Service employees in the OIG.

This delegation of authority is not intended to revoke, amend, or otherwise affect the validity of any other delegation of authority.

Any act, executive order, regulation, or procedure subject to, or affected by, this delegation shall be deemed to be such act, executive order, regulation, or procedure as amended from time to time.

Notwithstanding this delegation of authority, the Secretary may at any time exercise any authority or function delegated by this delegation of authority.

This delegation of authority shall be published in the Federal Register.

Dated: May 28, 2014.
John F. Kerry,
Secretary of State.

[FR Doc. 2014-14496 Filed 6-19-14; 8:45 am]

BILLING CODE 4710-42-P